DEPARTMENT OF TRANSPORTATION

Federal Aviation Administration

[Docket No. FAA-2019-0895]

Agency Information Collection Activities: Requests for Comments; Clearance of New Approval of Information Collection: Employee Assault Prevention and Response Plan

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on November 1, 2019 (84 FR 58818). The collection involves submission of Employee Assault Prevention and Response Plans (EAPRP) for customer service agents of certificate holders conducting operations under Title 14 of the Code of Federal Regulations (CFR) part 121. The certificate holders will submit the information to be collected to the FAA for review and acceptance as required by Section 551 of Public Law 115-254, the FAA Reauthorization Act of 2018.

DATES: Written comments should be submitted by February 10, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Daniel T. Ronneberg by email at: Dan.Ronneberg@faa.gov; phone: 202-267-1612.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Employee Assault Prevention and Response Plan.

Form Numbers: There are no forms associated with this collection.

Type of Review: Clearance of a new information collection.

Background: The Federal Register Notice with a 60-day comment period soliciting comments on the following collection of information was published on November 1, 2019 (84 FR 58818). On October 5, 2018, Congress enacted Public Law 115-254, the FAA Reauthorization Act of 2018 (“the Act”). Section 551 of the Act required air carriers operating under 14 CFR part 121 to submit to the FAA for review and acceptance an Employee Assault Prevention and Response Plan (EAPRP) related to the customer service agents of the air carrier that is developed in consultation with the labor union representing such agents. Section 551(b) of the Act contains the required contents of the EAPRP, including reporting protocols for air carrier customer service agents who have been the victim of a verbal or physical assault.

Respondents: 70 Part 121 Air Carriers.

Frequency: Once for submission of the plan.

Estimated Average Burden per Response: 20 hours for air carriers submitting the plan for review and acceptance.

Estimated Total Annual Burden: 20 hours per air carriers submitting the plan for review and acceptance.

Issued in Washington, DC, on January 7, 2020.
Sandra L. Ray,
Aviation Safety Inspector, FAA, Policy Integration Branch, AFS-270.

[FR Doc. 2020-00229 Filed 1-9-20; 8:45 am]

BILLING CODE 4910-13-P